DEPARTMENT OF STATE

[Public Notice: 11980]

Notice of Public Meeting in Preparation for International Maritime Organization SSE 9 Meeting

The Department of State will conduct a public meeting at 1:00 p.m. on Thursday, February 16, 2023, both in-person at Coast Guard Headquarters in Washington, DC, and Microsoft Teams meeting, with the option for online or phone (audio only) participation. The primary purpose of the meeting is to prepare for the 9th session of the International Maritime Organization's (IMO) Sub-Committee on Ship Systems and Equipment (SSE 9) to be held at IMO Headquarters, in London, United Kingdom, from February 27 to March 3, 2023.

Members of the public may participate in-person up to the capacity of the room or up to the capacity of the Microsoft Teams meeting, which can handle 1,000 participants. To RSVP, participants should contact the meeting coordinator, LT Christopher Reimer, by email at Christopher.P.Reimer@uscg.mil. The meeting location will be the United States Coast Guard Headquarters, 4R14-18 Conference Room. LT Reimer will provide access information for in-person and Microsoft Teams attendance.

The agenda items to be considered at this meeting mirror those to be considered at SSE 9, and include:

• Adoption of the agenda

• Decision of other IMO bodies

• New requirements for ventilation of survival craft

• Development of amendments to the LSA Code to revise the lowering speed of survival craft and rescue boats for cargo ships

• Revision of SOLAS chapter III and the LSA Code

• Review of SOLAS chapter II-2 and associated codes to minimize the incidence and consequences of fires on ro-ro spaces and special category spaces of new and existing ro-ro passenger ships

• Development of amendments to the LSA code for thermal performance of immersion suits

• Development of amendments to the LSA code and resolution MSC.81(70) to address the in-water performance of SOLAS lifejackets

• Revision of the provisions for helicopter facilities in SOLAS and the MODU Code

• Development of amendments to SOLAS chapter II-2 and the FSS Code concerning detection and control of fires in cargo holds and on the cargo deck of containerships

• Development of amendments to SOLAS chapter II-2 and MSC.1/Circ. 1456 addressing fire protection of control stations on cargo ships

• Revision of the Code of Safety for Diving Systems (resolution A.831(19)) and the Guidelines and specifications for hyperbaric evacuation systems (resolution A.692(17))

• Validated model training courses

• Unified interpretation of provisions of IMO safety, security and environment-related conventions

• Development of provisions to prohibit the use of fire-fighting foams containing perfluorooctane sulfonic acid (PFOS) for fire-fighting on board ships

• Amendments to the LSA Code concerning single fall and hook systems with on-load release capability

• Biennial status report and provisional agenda for SSE 10

• Election of Chair and Vice-Chair for 2024

• Any other business

• Report to the Maritime Safety Committee

Please note: The IMO may, on short notice, adjust the SSE 9 agenda to accommodate the constraints associated with the virtual meeting format. Any changes to the agenda will be reported to those who RSVP.

Those who plan to participate may contact the meeting coordinator, LT Christopher Reimer, by email at Christopher.P.Reimer@uscg.mil, or in writing at United States Coast Guard (CG-ENG-4), ATTN: LT Christopher Reimer, 2703 Martin Luther King Jr. Ave. SE Stop 7509, Washington, DC 20593-7509. Members of the public needing reasonable accommodation should advise LT Reimer not later than February 2, 2023. Requests made after that date will be considered but might not be possible to fulfill.

(Authority: 22 U.S.C. 2656 and 5 U.S.C. 552.)

Emily A. Rose,
Coast Guard Liaison Officer, Office of Ocean and Polar Affairs, Department of State.

[FR Doc. 2023-01732 Filed 1-27-23; 8:45 am]

BILLING CODE 4710-09-P